DEPARTMENT OF COMMERCE

National Oceanic and Atmospheric Administration

50 CFR Part 600

[I.D. 012402A]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator) has made a preliminary determination that an application to issue EFPs to six longline and tub trawl vessels, submitted by the Maine Department of Marine Resources (Maine DMR), contains all the information required by the regulations governing exempted experimental fishing under the provisions of the Magnuson-Stevens Fishery Conservation and Management Act (Magnuson-Stevens Act) and warrants further consideration. The Regional Administrator has also made a preliminary determination that the activities authorized under these EFPs would be consistent with the goals and objectives of the Northeast Multispecies Fishery Management Plan (FMP) and is within the scope of earlier analyses of the impacts. However, further review and consultation may be necessary before a final determination is made to issue six EFPs.

Regulations under the Magnuson-Stevens Act require publication of this notification to provide interested parties the opportunity to comment on applications for proposed EFPs.

DATES: Comments on this notification must be received at the appropriate address or fax number (see ADDRESSES) on or before March 6, 2002.

ADDRESSES: Written comments should be sent to Patricia A. Kurkul, Regional Administrator, NMFS, Northeast Regional Office, One Blackburn Drive, Gloucester, MA 01930. Mark the outside of the envelope “Comments on EFP Proposal.” Comments may also be sent via facsimile to (978) 281-9135. Comments will not be accepted if submitted via e-mail or the Internet.

FOR FURTHER INFORMATION CONTACT: Allison Ferreira, Fishery Management Specialist, 978-281-9103.

SUPPLEMENTARY INFORMATION: NMFS announces that the Regional Administrator intends to issue EFPs to allow six federally permitted vessels to fish for, land, and possess Atlantic halibut (Hippoglossus hippoglossus) in excess of the allowable landing and possession limit specified at 50 CFR 648.86(c) within a portion of the Gulf of Maine/Georges Bank Regulated Mesh Area (GOM/GB RMA). The EFPs would also allow these vessels to possess temporarily Atlantic halibut less than the minimum size requirement specified at § 648.83(a)(1) for purposes of collecting scientific information.

Maine DMR submitted a proposal on November 6, 2001, to conduct an experimental Atlantic halibut fishery in a portion of the GOM/GB RMA. The industry collaborative experiment involves Maine DMR, with consultation provided by the NMFS Northeast Fisheries Science Center (Center). The purpose of the experiment is to continue the collection of data on the distribution, relative abundance, migration, stock definition, mortality rates, stock size, yield, and other significant biological reference points of the Atlantic halibut resource to be used in the long-term management of the species. In addition, the experiment proposes to collect information on age and growth, size and sex composition, and rate and onset of sexual maturity. The proposed experiment is a continuation of experimental fisheries conducted by Maine DMR in 2000 and 2001.

The study would occur from April 1 through May 31, 2002, and would take place in a portion of the GB/GOM RMA defined by the following coordinates:

Area Point | N. Latitude | W. Longitude
HAL 1 | Mainland Maine Coastline | 69° 00″
HAL 2 | 43° 12.3″ | 69° 00″
HAL 3 | 43° 58.3″ | 67° 21.5″
HAL 4* | Mainland Maine Coastline and U.S./Canada Maritime Boundary | Mainland Maine Coastline and U.S./Canada Maritime Boundary
*Between points HAL 3 and HAL 4, the area follows the U.S. /Canada maritime boundary.

A maximum of six traditional longline and tub trawl vessels would be authorized to participate in the experiment at any given time. These vessels would be limited to a maximum number of 700 hooks per boat, and would be restricted to using circle hooks no smaller than 14/0 in size. Each of the six participating vessels would also be limited to a total allowable catch (TAC) of 50 halibut, with no possession or landing limit. Once this TAC is reached by an individual vessel, that vessel would be restricted to possessing and landing no more than six legal-sized halibut per day. The maximum number of Atlantic halibut that could be harvested as part of this study would be 1,080 halibut, the amount established for the 2000 and 2001 experimental fisheries.

Logbooks supplied by Maine DMR would be used to record information on length of all halibut caught, whether retained or released, time and place of all halibut caught, tag number (if applicable), amount of gear used, and bait type. In addition, species identification and length of all species caught as bycatch during the course of the study would be recorded. For all halibut that are retained, participants would be required to preserve stomachs, gonads, and any other biological samples (including scale and otolith samples) requested by scientists from Maine DMR and the NMFS for further analyses. All halibut less than 36 inches (91.4 cm) total length would be measured, tagged and released. Only legal-sized halibut would be retained for commercial sale. Training in the procedures for collecting this information would be provided by Maine DMR or Center personnel. In addition, participants would be required to complete a training program in the tagging and release of halibut.

Vessels may be required to carry onboard observers as requested by NMFS and Maine DMR. Onboard observers will consist primarily of Maine DMR staff and possibly University of Maine students. Maine DMR or Center personnel would train observers in the protocols of the experiment.

The 2001 experimental Atlantic halibut fishery took place from April 12—May 31, 2001, within the same study area as the proposed 2002 experimental fishery. Although six vessels were permitted to fish in the 2001 experimental fishery, only four actively participated. Over the course of 50 days, 152 Atlantic halibut were caught, of which 126 were kept and 26 were tagged and released. Most of the kept halibut were sold for consumption, but 45 of the 126 kept halibut were sold live to the University of Maine for use as brood stock. Two of the fish that were caught were recaptured from the 2000 experimental fishery. One of the recaptured fish was re-released, while the other was sold live to the University of Maine. Otolith and gonad samples were taken from all fish retained, except for the 45 fish sold live to the University of Maine.

The 2000 experimental Atlantic halibut fishery took place from April 15 to June 15, 2000. Three vessels participated in this experimental fishery capturing 234 halibut, of which 162 were kept. At an average weight of 40 lb (based on data from the 2000 and 2001 experimental fisheries), this equates to 6,480 lb (2.9 mt) of halibut caught. Compared to a total of 11 mt (24,250 lb) of Atlantic halibut landed from the Gulf of Maine and Georges Bank during 2000, the experimental fishery was responsible for approximately 27 percent of total Atlantic halibut landings in 2000. Furthermore, the amount of Atlantic halibut landed in 2000 from the Gulf of Maine and Georges Bank was 1 mt less than the Atlantic halibut landed from this region in 1999.

As stated previously, 126 Atlantic halibut were landed during the 2001 Atlantic halibut experimental fishery. This is approximately 22 percent less than the halibut landed during the 2000 experimental fishery. Commercial 2001 halibut landings data are not yet available. However, the percentage of halibut retained during the 2001 experimental fishery in relation to total 2001 halibut landings is not expected to exceed the percentage for 2000, or 27 percent. Based on this information, NMFS believes that the catch rates for the 2002 experimental fishery will not exceed those of the 2000 and 2001 studies. Therefore, the impact of the proposed 2002 experimental halibut fishery on the Atlantic halibut resource as a whole is expected to be minimal. Furthermore, the Center intends to closely monitor the catch rates of vessels participating in this experimental fishery. If the Center determines that catch rates are declining, indicating a significant impact to the resource, NMFS would have the authority to terminate the experimental fishery.

Up to six EFPs would be issued at any one time to exempt these vessels from the landing and possession limit for Atlantic halibut established under the FMP. The EFPs would also authorize the participating vessels to temporarily possess Atlantic halibut less than the minimum size requirement of 36 in. (91.4 cm) TL for purposes of scientific data collection.

Based on the results of this EFP, this action may lead to future rulemaking.

Authority: 16 U.S.C. 1801 et seq.

Dated: February 11, 2002.
Bruce C. Morehead,
Acting Director, Office of Sustainable Fisheries, National Marine Fisheries Service

[FR Doc. 02-3981 Filed 2-15-02; 8:45 am]

BILLING CODE 3510-22-S